FEDERAL COMMUNICATIONS COMMISSION

47 CFR Part 1

[WC Docket No. 07-245, GN Docket No. 09-51; FCC 11-50]

Implementation of Section 224 of the Act; A National Broadband Plan for Our Future

AGENCY: Federal Communications Commission.

ACTION: Final rule; announcement of effective date.

SUMMARY: The Federal Communications Commission published a document in the Federal Register that contained new information collection requirements. The Office of Management and Budget (OMB) gave approval for these information requirements contained in the Commission's Report and Order and Order on Reconsideration, Implementation of Section 224 of the Act; A National Broadband Plan for Our Future.

DATES: The final rules published at 76 FR 26620, May 9, 2011, including 47 CFR 1.1420, 1.1422, and 1.1424, are effective on July 12, 2011.

FOR FURTHER INFORMATION CONTACT: Jonathan Reel, Competition Policy Division, Wireline Competition Bureau, at (202) 418-0637, or via the Internet at Jonathan.Reel@fcc.gov.

SUPPLEMENTARY INFORMATION: The Federal Communications Commission has received OMB approval for the rules contained in information collection OMB Control No: 3060-1151, Pole Attachment Access Rules. The information collection was adopted in the Report and Order and Order on Reconsideration, Implementation of Section 224 of the Act; A National Broadband Plan for Our Future in WC Docket No. 07-245, GN Docket No. 09-51, which appears at 76 FR 26620, May 9, 2011. The effective date of the rules adopted in that Order was published as June 8, 2011, except for 47 CFR 1.1420, 1.1422 and 1.1424, which contain information collection requirements that would not be effective until approved by the Office of Management and Budget. Through this document, the Commission announces that it has received this approval (OMB Control No. 3060-1151, Expiration Date: December 31, 2011), and that 47 CFR 1.1420, 1.1422, and 1.1424 are effective on July 12, 2011.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Cathy Williams, Federal Communications Commission, (202) 418-2918, or via the Internet at Cathy.Williams@fcc.gov.

Federal Communications Commission.
Bulah P. Wheeler,
Deputy Manager.

[FR Doc. 2011-17369 Filed 7-11-11; 8:45 am]

BILLING CODE 6712-01-P